FEDERAL COMMUNICATIONS COMMISSION

[OMB 3060-0984]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before January 2, 2019. If you anticipate that you will be submitting comments, but find it difficult to do so within the period of time allowed by this notice, you should advise the contacts below as soon as possible.

ADDRESSES: Direct all PRA comments to Cathy Williams, FCC, via email: PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA, 44 U.S.C. 3501-3520, the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control Number: 3060-0984.

Title: 90.175(b)(1), Frequency Coordinator Requirements, Industrial/Business Pool frequencies.

Form Number: N/A.

Type of Review: Revision of a currently approved collection.

Respondents: Business or other for-profit entities, and State, local, or tribal government.

Number of Respondents and Responses: 2,700 respondents; 2,700 responses.

Estimated Time per Response: 1 hour.

Frequency of Response: One-time reporting requirement, and third party disclosure requirement.

Obligation to Respond: Required to obtain or retain benefits. Statutory authority for this collection of information is contained in Sections 4(i), 11, 303(g), 303(r), and 332(c)(7) of the Communications Act of 1934, as amended, 47 U.S.C. 154(i), 161, 301, 302(a), 303(g), 303(r), 309, 332(c)(7), 336 and 337.

Total Annual Burden: 2,700 hours.

Total Annual Cost: No cost.

Privacy Impact Assessment: No impact(s).

Nature and Extent of Confidentiality: There is no need for confidentiality with this collection of information.

Needs and Uses: Section 90.175 requires third party disclosures by applicants proposing to operate a land mobile radio station. If they are requesting a frequency that formerly was coordinated exclusively by one industry-specific frequency coordinator, they are required to obtain written concurrence of that frequency coordinator.

On August 18, 2016, the Commission adopted a Notice of Proposed Rulemaking, FCC 16-110, in WP Docket No. 16-261, RM-11719 and RM-11722 (2016 Notice of Proposed Rulemaking), which proposed to amend Part 90 of the Commission's Rules to expand access to private land mobile radio (PLMR) spectrum. Among the many actions taken in the 2016 Spectrum Access NPRM, the Commission proposed to make certain frequencies that are designated for central station alarm operations available for other PLMR uses.

Specifically, the Commission proposed to modify section 95.35(c)(63) to remove the use limitation in the urbanized areas where the frequencies designated for alarm use in urban areas are not in use. The Commission tentatively concluded that it would be in the public interest to make these frequencies available for other PLMR operations in those areas and sought comment on this proposal, including its costs and benefits. The Commission also sought comment on other ways to expand PLMR users' access to frequencies that are designated, but no longer needed, for central station commercial protection services, including by making available channels in urbanized areas where some of the urban frequencies are in use, including: Related costs and benefits associated with such proposals; current and expected future need for central station commercial protection service channels in the 460-470 MHz band; and how to protect incumbent central station commercial protection service operations from harmful interference if eliminating the use restriction on any frequency in any area where it currently is in use.

On October 22, 2018, the Commission issued a Report and Order and Order, FCC 18-143, in WP Docket No. 15-32, RM-11572, WP Docket No. 16-261, RM-11719 and RM-11722 (800/PLMR Access Order), in which it revised certain rules to require applicants for channels currently designated for central station alarm use to obtain the concurrence of the central station alarm frequency coordinator in order to use the channels for uses other than central station alarm operations. This requirement is similar to existing requirements pertaining to certain other channels. The Report and Order and Order did not revise any of the information collection requirements that are contained in this collection but rather added additional frequencies to the list. Therefore, this essentially is adding an additional 200 respondents to this collection.

Federal Communications Commission.
Marlene Dortch,
Secretary, Office of the Secretary.

[FR Doc. 2018-24021 Filed 11-1-18; 8:45 am]

BILLING CODE 6712-01-P